DEPARTMENT OF JUSTICE

Notice of Lodging of a Consent Decree Pursuant to the Comprehensive Environmental Response, Compensation, and Liability Act

Notice is hereby given that on September 14, 2009, a proposed consent decree in United States v. Pharmacia Corp., et al., Civil No. 99-63-GPM, was lodged with the United States District Court for the Southern District of Illinois.

In this action brought pursuant to the Comprehensive Environmental Response, Compensation and Liability Act, 42 U.S.C. 9607, the United States sought recovery of unreimbursed past response costs and prejudgment interest incurred by the United States Environmental Protection Agency for response actions at the Sauget Area 1 Sites in Sauget, St. Clair County, Illinois. In addition, defendant Solutia Inc. filed a counterclaim against the United States and cross-claims against other defendants for contribution. Under the proposed consent decree, defendants Solutia, Pharmacia Corporation, Cerro Flow Products, Inc. and ExxonMobil Oil Corporation will pay a total of $4,350,000 to the Hazardous Substance Superfund. Defendant Village of Sauget will pay a total of $500,000, stipulate to judgment of $6,500,000, and remit 95% of its insurance recovery to the United States. Finally, under the proposed consent decree, the United States will pay a total of $1,125,000.

The Department of Justice will accept comments relating to the three proposed consent decrees for a period of thirty (30) days from the date of publication of this notice. Comments should be addressed to the Assistant Attorney General, Environment and Natural Resources Division, and mailed either electronically to pubcomment-ees.enrd@usdoj.gov or in hard copy to P.O. Box 7611, U.S. Department of Justice, Washington, DC 20044-7611. Comments should refer to United States v. Pharmacia Corp., et al., Civil No. 99-63-GPM (S.D. Ill.) and D.J. Reference No. 90-11-2-06089.

The proposed consent decree may be examined at: (1) The Office of the United States Attorney for the Southern District of Illinois, Nine Executive Drive, Fairview Heights, Illiois 62208, (618) 628-3700; and (2) the United States Environmental Protection Agency (Region 5), 77 West Jackson Boulevard, Chicago, Illinois 60604-3590 (contact Thomas J. Martin (312-886-4273)). During the comment period, the proposed consent decrees may also be examined on the following Department of Justice Web site: http://www.usdoj.gov/enrd/Consent_Decrees.html. Copies of the proposed consent decrees may also be obtained by mail from the Department of Justice Consent Decree Library, P.O. Box 7611, Washington, DC 20044-7611 or by faxing or e-mailing a request to Tonia Fleetwood (tonia.fleetwood@usdoj.gov), fax no. (202) 514-0097, phone confirmation number (202) 514-1547. In requesting a copy from the Consent Decree Library, please refer to the referenced case and D.J. Reference No. 90-11-2-06089, and enclose a check in the amount of $10.00 for the three consent decrees (40 pages at 25 cents per page reproduction costs), made payable to the U.S. Treasury.

Maureen Katz,
Assistant Chief, Environmental Enforcement Section, Environment and Natural Resources Division.

[FR Doc. E9-22540 Filed 9-18-09; 8:45 am]

BILLING CODE 4410-15-P